DEPARTMENT OF AGRICULTURE

Rural Housing Service

Notice of Availability of Funding and Requests for Proposals for Guaranteed Loans Under the Section 538 Guaranteed Rural Rental Housing Program; Correction

AGENCY: Rural Housing Service, USDA.

ACTION: Correction.

SUMMARY: The Rural Housing Service (RHS) corrects a notice published December 21, 1999 (64 FR 71601). This action is taken to correct the closing date of the “early selection pool” of $40 million from 4:00 Eastern Standard Time on February 21, 2000 to 4:00 Eastern Standard Time on February 22, 2000. This action is being taken because there will be no mail delivery on February 21, 2000 due to the Federal Holiday.

Accordingly, the notice published December 21, 1999 (64 FR 71601), is corrected as follows:

On page 71601 in the second column, in the first sentence under the heading “DATES,” the text “4:00 PM Eastern Time on February 21, 2000” should read “4:00 PM Eastern Standard Time on February 22, 2000.”

On page 71602 in the second column, Item III., in the first paragraph, the text “4 p.m. Eastern Standard Time, February 21, 2000” should read “4:00 PM Eastern Standard Time on February 22, 2000.”

On page 71602 in the second column, Item III., in the second paragraph, the text “4:00 PM, Eastern Standard Time on February 21, 2000” should read “4:00 PM Eastern Standard Time on February 22, 2000.”

Dated: February 2, 2000.
James C. Kearney,
Administrator, Rural Housing Service.

[FR Doc. 00-3042 Filed 2-9-00; 8:45 am]

BILLING CODE 3410-XV-U